FEDERAL ELECTION COMMISSION

[NOTICE 2024-02]

Filing Dates for the California Special Election in the 20th Congressional District

AGENCY: Federal Election Commission.

ACTION: Notice of filing dates for special election.

SUMMARY: California has scheduled a Special General Election on March 19, 2024, to fill the U.S. House of Representatives seat in the 20th Congressional District vacated by Representative Kevin McCarthy. Under California law, a majority winner in a special election is declared elected. Should no candidate achieve a majority vote, a Special Runoff Election will be held on May 21, 2024, between the top two vote-getters. Political committees participating in the California special elections are required to file pre- and post-election reports. Filing deadlines for these reports are affected by whether one or two elections are held.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the California Special General and Special Runoff Elections shall file a 12-day Pre-General Report on March 7, 2024; a 12-day Pre-Runoff Report on May 9, 2024; and a 30-day Post-Runoff Report on June 20, 2024. (See charts below for the closing date for each report.)

If both elections are held, all principal campaign committees of candidates who participate only in the California Special General Election shall file a 12-day Pre-General Report on March 7, 2024. (See charts below for the closing date for each report.)

If only one election is held, all principal campaign committees of candidates in the Special General Election shall file a 12-day Pre-General Report on March 7, 2024; and a 30-day Post-General Report on April 18, 2024. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the California Special General and/or Special Runoff Election by the close of books for the applicable report(s). (See charts below for the closing date for each report.)

Committees filing monthly that make contributions or expenditures in connection with the California Special General or Special Runoff Elections will continue to file according to the monthly reporting schedule.

Additional disclosure information for the California special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of the lobbyist bundling threshold during the special election reporting periods. (See charts below for closing date of each period.) 11 CFR 104.22(a)(5)(v), (b), 110.17(e)(2), (f).

The lobbyist bundling disclosure threshold for calendar year 2023 was $21,800. This threshold amount may change in 2024 based upon the annual cost of living adjustment (COLA). As soon as the adjusted threshold amount is available, the Commission will publish it in the Federal Register and post it on its website. 11 CFR 104.22(g) and 110.17(e)(2).

Calendar of Reporting Dates for California Special Elections
Report | Close of books ¹ | Reg./cert. & overnight mailing deadline | Filing deadline
If Only the Special General (3/19/2024) Is Held, Political Committees Involved Must File
Pre-General | 02/28/2024 | 03/04/2024 | 03/07/2024
April Quarterly |  | —WAIVED— |
Post-General | 04/08/2024 | 04/18/2024 | 04/18/2024
July Quarterly | 06/30/2024 | 07/15/2024 | 07/15/2024
If Two Elections Are Held, Political Committees Involved in Only the Special General (03/19/2024) Must File
Pre-General | 02/28/2024 | 03/04/2024 | 03/07/2024
April Quarterly | 03/31/2024 | 04/15/2024 | 04/15/2024
Political Committees Involved in Both the Special General (03/19/2024) and the Special Runoff (05/21/2024) Must File
Pre-General | 02/28/2024 | 03/04/2024 | 03/07/2024
April Quarterly | 03/31/2024 | 04/15/2024 | 04/15/2024
Pre-Runoff | 05/01/2024 | 05/06/2024 | 05/09/2024
Post-Runoff | 06/10/2024 | 06/20/2024 | 06/20/2024
July Quarterly | 06/30/2024 | 07/15/2024 | 07/15/2024
Political Committees Involved in Only the Special Runoff (05/21/2024) Must File
Pre-Runoff | 05/01/2024 | 05/06/2024 | 05/09/2024
Post-Runoff | 06/10/2024 | 06/20/2024 | 06/20/2024
July Quarterly | 06/30/2024 | 07/15/2024 | 07/15/2024
¹ The reporting period always begins the day after the closing date of the last report filed. If the committee is new and has not previously filed a report, the first report must cover all activity that occurred before the committee registered as a political committee up through the close of books for the first report due.

Dated: January 12, 2024.
On behalf of the Commission.
Sean J. Cooksey,
Chairman, Federal Election Commission.

[FR Doc. 2024-00908 Filed 1-17-24; 8:45 am]

BILLING CODE 6715-01-P